DEPARTMENT OF ENERGY

Federal Energy Regulatory Commission

Combined Notice of Filings #1

Take notice that the Commission received the following electric corporate filings:

Docket Numbers: EC16-90-000.

Applicants: Virginia Electric and Power Company.

Description: Application for Authorization under Section 203 of the FPA and Requests for Waivers, Shortened Comment Period and Expedited Consideration of Virginia Electric and Power Company.

Filed Date: 3/22/16.

Accession Number: 20160322-5045.

Comments Due: 5 p.m. ET 4/12/16.

Take notice that the Commission received the following exempt wholesale generator filings:

Docket Numbers: EG16-75-000.

Applicants: Antelope Big Sky Ranch LLC.

Description: Notice of Self-Certification of Exempt Wholesale Generator Status of Antelope Big Sky Ranch LLC.

Filed Date: 3/22/16.

Accession Number: 20160322-5076.

Comments Due: 5 p.m. ET 4/12/16.

Take notice that the Commission received the following electric rate filings:

Docket Numbers: ER16-746-001.

Applicants: Constellation Power Source Generation, LLC.

Description: Tariff Amendment: Response to Defiency Letter to be effective 2/1/2016.

Filed Date: 3/21/16.

Accession Number: 20160321-5210.

Comments Due: 5 p.m. ET 4/11/16.

Docket Numbers: ER16-768-001.

Applicants: RE Garland LLC.

Description: Compliance filing: RE Garland LGIA Co-Tenancy Agreement Compliance Filing to be effective 3/28/2016.

Filed Date: 3/22/16.

Accession Number: 20160322-5135.

Comments Due: 5 p.m. ET 4/12/16.

Docket Numbers: ER16-769-001.

Applicants: RE Garland A LLC.

Description: Compliance filing: RE Garland A LGIA Co-Tenancy Agreement Compliance Filing to be effective 3/28/2016.

Filed Date: 3/22/16.

Accession Number: 20160322-5136.

Comments Due: 5 p.m. ET 4/12/16.

Docket Numbers: ER16-895-002.

Applicants: RDAF Energy Solutions, LLC.

Description: Tariff Amendment: Re-File Amendment RDAF Energy Solutions to be effective 3/22/2016.

Filed Date: 3/22/16.

Accession Number: 20160322-5153.

Comments Due: 5 p.m. ET 4/12/16.

Docket Numbers: ER16-1250-000.

Applicants: Avangrid Renewables, LLC.

Description: § 205(d) Rate Filing: Notice of Succession to be effective 3/22/2016.

Filed Date: 3/21/16.

Accession Number: 20160321-5212.

Comments Due: 5 p.m. ET 4/11/16.

Docket Numbers: ER16-1251-000.

Applicants: Entergy Louisiana, LLC.

Description: § 205(d) Rate Filing: ELL MSS-4 Agreements to be effective 9/1/2016.

Filed Date: 3/21/16.

Accession Number: 20160321-5213.

Comments Due: 5 p.m. ET 4/11/16.

Docket Numbers: ER16-1252-000.

Applicants: Monongahela Power Company, Pennsylvania Electric Company, American Transmission Systems, Incorporated, PJM Interconnection, L.L.C.

Description: § 205(d) Rate Filing: ATSI, Penelec, and Monongahela submit SA Nos. 4343, 4362, 4369, 4370, and 4371 to be effective 5/21/2016.

Filed Date: 3/22/16.

Accession Number: 20160322-5048.

Comments Due: 5 p.m. ET 4/12/16.

Docket Numbers: ER16-1253-000.

Applicants: Southern California Edison Company.

Description: § 205(d) Rate Filing: Second Amendment of LGIA, Service Agreement No. 171 to be effective 5/21/2016.

Filed Date: 3/22/16.

Accession Number: 20160322-5058.

Comments Due: 5 p.m. ET 4/12/16.

Docket Numbers: ER16-1254-000.

Applicants: MMP SCO, LLC.

Description: Baseline eTariff Filing: MMP SCO, LLC Application for MBR Authorization to be effective 3/22/2016.

Filed Date: 3/22/16.

Accession Number: 20160322-5087.

Comments Due: 5 p.m. ET 4/12/16.

Docket Numbers: ER16-1255-000.

Applicants: Antelope Big Sky Ranch LLC.

Description: Baseline eTariff Filing: Antelope Big Sky Ranch LLC MBR Tariff to be effective 5/21/2016.

Filed Date: 3/22/16.

Accession Number: 20160322-5095.

Comments Due: 5 p.m. ET 4/12/16.

Docket Numbers: ER16-1256-000.

Applicants: Panda Liberty LLC.

Description: Initial rate filing: Reactive Supply and Voltage Control from Generation or Other Sources Service to be effective 5/1/2016.

Filed Date: 3/22/16.

Accession Number: 20160322-5133.

Comments Due: 5 p.m. ET 4/12/16.

Docket Numbers: ER16-1257-000.

Applicants: Westerly Hospital Energy Company, LLC.

Description: Tariff Cancellation: Cancellation of MBR Tariff to be effective 3/22/2016.

Filed Date: 3/22/16.

Accession Number: 20160322-5137.

Comments Due: 5 p.m. ET 4/12/16.

Docket Numbers: ER16-1258-000.

Applicants: Grande Prairie Wind, LLC.

Description: Baseline eTariff Filing: Grande Prairie LLC MBR Application to be effective 5/22/2016.

Filed Date: 3/22/16.

Accession Number: 20160322-5150.

Comments Due: 5 p.m. ET 4/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2016.
Nathaniel J. Davis, Sr.,
Deputy Secretary.

[FR Doc. 2016-07236 Filed 3-30-16; 8:45 am]

BILLING CODE 6717-01-P